DEPARTMENT OF ENERGY

Federal Energy Regulatory Commission

[Docket No. ER00-1801-000, et al.]

Sierra Pacific Power Company, et al.; Electric Rate and Corporate Regulation Filings

April 12, 2000.

Take notice that the following filings have been made with the Commission:

1. Sierra Pacific Power Company, et al.

[Docket No. ER00-1801-000]

Take notice that on March 30, 2000 Nevada Power Company (Nevada Power) and Sierra Pacific Power Company (Sierra Pacific) tendered for filing an amendment to the joint open-access transmission tariff filed on March 3, 2000, in Docket No. ER00-1801-000, in anticipation of the pending merger among Nevada Power, Sierra Pacific, and Portland General Electric Company. The amendment incorporates two transmission loss studies also filed on March 30, 2000, by Nevada Power and Sierra Pacific, in Docket Nos. ER00-2004-000 and ER00-2003-000 respectively, that indicate a change in the factor used to calculate transmission service losses under their joint open-access transmission tariff, FERC Original Volume No. 1, filed in Docket No. ER99-34-000.

Copies of this filing have been served upon those persons on the Commission's official service list compiled in Docket No. ER00-1801-000.

Nevada Power and Sierra Pacific request that the filing be made effective in Docket No. ER00-1801-000 as of the effective date of that joint tariff.

Comment date: May 3, 2000, in accordance with Standard Paragraph E at the end of this notice.

2. El Paso Energy Corporation and the Coastal Corporation

[Docket No. EC00-73-000]

Take notice that on April 3, 2000, pursuant to Federal Power Act (FPA) Section 203, 16 U.S.C. 824b, and Part 33 of the Commission's regulations, 18 CFR part 33, El Paso Energy Corporation (El Paso Energy) and The Coastal Corporation (Coastal) on behalf of their respective FPA-jurisdictional subsidiaries (collectively, Applicants) applied for all Commission approvals necessary to consummate their proposed merger. Applicants state that the FPA-jurisdictional subsidiaries of El Paso Energy and Coastal are power marketers and merchant plants with market-based rate authority.

El Paso Energy is an energy holding company whose subsidiary operations include interstate and intrastate transportation and storage of natural gas; gathering, exploration, production, processing and marketing of natural gas; independent power generation; power marketing; and the development of energy infrastructure facilities worldwide. Coastal is a diversified energy holding company with subsidiary operations in natural gas transportation, storage, gathering and processing; petroleum refining, marketing and distribution; gas and oil exploration and production; coal mining; and power generation and marketing.

Comment date: June 2, 2000, in accordance with Standard Paragraph E at the end of this notice.

3. PG&E Dispersed Generating Company, LLC

[Docket No. EG00-124-000]

Take notice that on April 6, 2000, PG&E Dispersed Generating Company, LLC (PG&E Dispersed Gen), a Delaware limited liability company with its principal place of business at 7500 Old Georgetown Road, Bethesda, MD 20814, filed with the Federal Energy Regulatory Commission an application for determination of exempt wholesale generator status pursuant to Part 365 of the Commission's regulations.

PG&E Dispersed Gen proposes to construct, own or lease and operate three additional generating facilities in Ohio. The proposed power plants are expected to commence commercial operation on or about July 1, 2000. All output from the plants will be sold by PG&E Dispersed Gen exclusively at wholesale.

Comment date: May 3, 2000, in accordance with Standard Paragraph E at the end of this notice. The Commission will limit its consideration of comments to those that concern the adequacy or accuracy of the application.

4. Orion Power Midwest, L.P.

[Docket No. ER00-2129-000]

Take notice that on April 4, 2000, Orion Power MidWest, LLC filed a letter of name change to Orion Power MidWest, L.P.

Comment date: April 25, 2000, in accordance with Standard Paragraph E at the end of this notice.

5. RS Cogen, L.L.C.

[Docket No. QF00-32-000]

Take notice that on April 11, 2000, RS Cogen, L.L.C. (RS Cogen) located at 1300 PPG Drive, Westlake, Louisiana 70669, filed a supplement to its application pursuant to Section 292.207(b) of the Commission's regulations for a determination by the Commission that RS Cogen's cogeneration facility is a qualifying facility under the Public Utility Regulatory Policies Act of 1978 and the Commission's regulations thereunder.

Comment date: May 2, 2000, in accordance with Standard Paragraph E at the end of this notice.

6. LS Power Marketing, LLC

[Docket No. ER96-1947-015]

Take notice that on April 7, 2000, LS Power Marketing, LLC (LSPM), tendered for filing a Notification of Change in Status and Updated Market Power Analysis, notifying the Commission of certain changes in its affiliation with various generating companies, as a result of indirect acquisitions and dispositions by its affiliates. LSPM also noted that it has changed its principal place of business and that none of its affiliates currently holds any interests in electric generating capacity for which construction commenced on or before July 9, 1996.

Comment date: April 28, 2000, in accordance with Standard Paragraph E at the end of this notice.

7. PJM Interconnection, L.L.C.

[Docket No. ER00-1745-001]

Take notice that on April 6, 2000, PJM Interconnection, L.L.C. (PJM), tendered for filing a supplement to its March 1, 2000, filing of an executed umbrella service agreement for network integration transmission service under state required retail access programs with Total Gas & Electric, Inc., including the specification sheets. The specification sheets inadvertently were not included in the March 1, 2000 filing when the agreement was originally filed.

PJM reiterated its request for a waiver of the Commission's 60-day notice requirement to allow an effective date for the agreement of February 1, 2000.

Copies of this supplemental filing were served upon Total Gas & Electric, Inc. and the state commissions within the PJM control area.

Comment date: April 27, 2000, in accordance with Standard Paragraph E at the end of this notice.

8. Texas Electric Marketing, LLC

[Docket No. ER00-1780-001]

Take notice that on April 7, 2000, Texas Electric Marketing, LLC (TEM), tendered for filing supplemental to its March 2, 2000, application for blanket authorizations and certain waivers filed with the Commission in the above-referenced docket.

Comment date: April 28, 2000, in accordance with Standard Paragraph E at the end of this notice.

9. PJM Interconnection, L.L.C.

[Docket No. ER00-2079-001]

Take notice that on April 7, 2000, PJM Interconnection, L.L.C. (PJM), on behalf of the PJM Reliability Committee, tendered for filing amendments to its April 3, 2000 filing in this docket that, among other things, amended Schedules 5.2, and 7 of the Reliability Agreement Among Load Serving Entities in the PJM Control Area (RAA) to implement Active Load Management procedures. The amended filing clarifies certain terms in Schedules 5.2 and 7 of the RAA.

Copies of this filing were served upon all parties to the RAA and each state electric utility regulatory commission in the PJM control area.

PJM, on behalf of the PJM Reliability Committee, requests an effective date of June 7, 2000 for the amendments filed in this docket as revised in the April 7, 2000 filing.

Comment date: April 28, 2000, in accordance with Standard Paragraph E at the end of this notice.

10. Wisconsin Electric Power Company

[Docket No. ER00-2137-000]

Take notice that on April 6, 2000, Wisconsin Electric Power Company (Wisconsin Electric), tendered for filing a revision to Appendix O to the Interconnection Agreement between itself and Wisconsin Public Service Corporation (WPS). The revision replaces the Thunder Point of Interconnection with the new Crivitz Point of Interconnection.

Wisconsin Electric requests an effective date of May 25, 1999 and waiver of the Commission's notice requirements in recognition that the extensive negotiations leading to the executed revision have only recently been concluded.

Copies of the filing have been served on WPS, the Public Service Commission of Wisconsin and the Michigan Public Service Commission.

Comment date: April 27, 2000, in accordance with Standard Paragraph E at the end of this notice.

11. Allegheny Energy Service Corporation, on behalf of Allegheny Energy Supply Company, LLC

[Docket No. ER00-2141-000]

Take notice that on April 6, 2000, Allegheny Energy Service Corporation on behalf of Allegheny Energy Supply Company, LLC (Allegheny Energy Supply), tendered for filing Amendment No. 3 to Supplement No. 8 to the Market Rate Tariff to incorporate a Settlement Procedures Agreement with PECO Energy Company into the tariff provisions.

Allegheny Energy Supply requests a waiver of notice requirements to make the Amendment effective as of March 30, 2000 or such other date as ordered by the Commission.

Copies of the filing have been provided to the Public Utilities Commission of Ohio, the Pennsylvania Public Utility Commission, the Maryland Public Service Commission, the Virginia State Corporation Commission, the West Virginia Public Service Commission, and all parties of record.

Comment date: April 27, 2000, in accordance with Standard Paragraph E at the end of this notice.

12. Allegheny Energy Service Corporation, on behalf of Monongahela Power Company, et al.

[Docket No. ER00-2142-000]

Take notice that on April 6, 2000, Allegheny Energy Service Corporation on behalf of Monongahela Power Company, The Potomac Edison Company and West Penn Power Company (Allegheny Power), tendered for filing Supplement No. 75 to add MIECO Inc., to Allegheny Power's Open Access Transmission Service Tariff which has been accepted for filing by the Federal Energy Regulatory Commission in Docket No. ER96-58-000.

The proposed effective date under the Service Agreements is April 5, 2000 or a date ordered by the Commission.

Copies of the filing have been provided to the Public Utilities Commission of Ohio, the Pennsylvania Public Utility Commission, the Maryland Public Service Commission, the Virginia State Corporation Commission, and the West Virginia Public Service Commission.

Comment date: April 27, 2000, in accordance with Standard Paragraph E at the end of this notice.

13. Virginia Electric and Power Company

[Docket No. ER00-2143-000]

Take notice that on April 6, 2000, Virginia Electric and Power Company (Virginia Power), tendered for filing Service Agreements for Firm and Non-Firm Point-to-Point Transmission Service by Virginia Electric and Power Company to Statoil Energy Services, Inc.

The foregoing Service Agreements are filed under the Open Access Transmission Tariff to Eligible Purchasers dated July 14, 1997. Under the tendered Service Agreements, Virginia Power will provide point-to-point service to the Transmission Customer under the rates, terms and conditions of the Open Access Transmission Tariff.

Virginia Power requests an effective date of April 6, 2000, the date of filing of the Service Agreements.

Copies of the filing were served upon Statoil Energy Services, Inc., the Virginia State Corporation Commission, and the North Carolina Utilities Commission.

Comment date: April 27, 2000, in accordance with Standard Paragraph E at the end of this notice.

14. Virginia Electric and Power Company

[Docket No. ER00-2144-000]

Take notice that on April 6, 2000, Virginia Electric and Power Company (Virginia Power) tendered for filing Service Agreements for Firm and Non-Firm Point-to-Point Transmission Service by Virginia Electric and Power Company to The Legacy Energy Group, LLC.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of April 6, 2000, the date of filing of the Service Agreements.

Copies of the filing were served upon The Legacy Energy Group, LLC, the Virginia State Corporation Commission, and the North Carolina Utilities Commission.

Comment date: April 27, 2000, in accordance with Standard Paragraph E at the end of this notice.

15. Virginia Electric and Power Company

[Docket No. ER00-2145-000]

Take notice that on April 6, 2000, Virginia Electric and Power Company (Virginia Power), tendered for filing the Service Agreement between Virginia Electric and Power Company and Statoil Energy Services, Inc. Under the Service Agreement, Virginia Power will provide services to Statoil Energy Services, Inc., under the terms of the Company's Revised Market-Based Rate Tariff designated as FERC Electric Tariff (Second Revised Volume No. 4), which was accepted by order of the Commission dated August 13, 1998 in Docket No. ER98-3771-000.

Virginia Power requests an effective date of April 6, 2000, the date of filing of the Service Agreement.

Copies of the filing were served upon Statoil Energy Services, Inc., the Virginia State Corporation Commission and the North Carolina Utilities Commission.

Comment date: April 27, 2000, in accordance with Standard Paragraph E at the end of this notice.

16. Virginia Electric and Power Company

[Docket No. ER00-2146-000]

Take notice that on April 6, 2000, Virginia Electric and Power Company (Virginia Power), tendered for filing Service Agreements for Firm and Non-Firm Point-to-Point Transmission Service by Virginia Electric and Power Company to El Paso Merchant Energy, L.P.

The foregoing Service Agreements are tendered for filing under the Open Access Transmission Tariff to Eligible Purchasers dated July 14, 1997. Under the tendered Service Agreements, Virginia Power will provide point-to-point service to the Transmission Customer under the rates, terms and conditions of the Open Access Transmission Tariff.

Virginia Power requests an effective date of April 6, 2000, the date of filing of the Service Agreements.

Copies of the filing were served upon El Paso Merchant Energy, L.P., the Virginia State Corporation Commission, and the North Carolina Utilities Commission.

Comment date: April 27, 2000, in accordance with Standard Paragraph E at the end of this notice.

17. New England Power Pool

[Docket No. ER00-2148-000]

Take notice that on April 7, 2000, the New England Power Pool (NEPOOL) Participants Committee and Transmission Owners submitted as a supplement to the NEPOOL Open Access Transmission Tariff (the NEPOOL Tariff) a rule for implementing Ancillary Service Schedule 2 (Reactive Supply and Voltage Control from Generation Sources Service) of the NEPOOL Tariff (the Schedule 2 Implementation Rule). The NEPOOL Participants Committee and Transmission Owners state that the Schedule 2 Implementation Rule documents the details for implementing the procedure and method for calculating the costs identified in Schedule 2 of the NEPOOL Tariff.

The NEPOOL Participants Committee and Transmission Owners state that copies of these materials were sent to the NEPOOL Participants and the six New England State governors and regulatory commissions.

Comment date: April 28, 2000, in accordance with Standard Paragraph E at the end of this notice.

18. TXU Electric Company

[Docket No. ER00-2149-000]

Take notice that, on April 7, 2000, TXU Electric Company (TXU Electric), tendered for filing an executed transmission service agreement (TSA) with FPL Energy Power Marketing, Inc., for certain Planned Service and Unplanned Service transactions under TXU Electric's Tariff for Transmission Service To, From and Over Certain HVDC Interconnections.

TXU Electric requests an effective date for the TSA that will permit it to become effective as of March 9, 2000. Accordingly, TXU Electric seeks waiver of the Commission's notice requirements.

Copies of the filing were served on FPL Energy Power Marketing, Inc., as well as the Public Utility Commission of Texas.

Comment date: April 28, 2000, in accordance with Standard Paragraph E at the end of this notice.

19. Indianapolis Power & Light Company

[Docket No. ER00-2150-000]

Take notice that on April 7, 2000, Indianapolis Power & Light Company (IPL), tendered for filing a market-based power sales tariff.

IPL requests that the tariff supersede the market-based power sales tariff filed in Docket No. ER00-1026-001.

Copies of this filing were served on the Indiana Utility Regulatory Commission.

Comment date: April 28, 2000, in accordance with Standard Paragraph E at the end of this notice.

20. Southern Indiana Gas and Electric Company

[Docket No. ER00-2151-000]

Take notice that on April 7, 2000, Southern Indiana Gas and Electric Company (SIGECO), tendered for filing a Wholesale Energy Service Agreement dated March 21, 2000, with Tractebel Energy Marketing, Inc., concerning the provision of electric service to Tractebel Energy Marketing, Inc., as a umbrella service agreement under its market-based Wholesale Power Sales Tariff:

Comment date: April 28, 2000, in accordance with Standard Paragraph E at the end of this notice.

21. Southwest Power Pool, Inc.

[Docket No. ER00-2153-000]

Take notice that on April 7, 2000, Southwest Power Pool, Inc. (SPP), on behalf of its members, tendered for filing changes to its open access transmission tariff (Tariff) in order to revise its tariff provisions to allow SPP to allow SPP to waive its deposit requirements on a non-discriminatory basis for customers that have been determined by SPP to be creditworthy.

SPP requests an effective date of April 8, 2000, for these changes.

Copies of this filing were served upon all members and customers of SPP, and on all affected state commissions.

Comment date: April 28, 2000, in accordance with Standard Paragraph E at the end of this notice.

Standard Paragraphs

E. Any person desiring to be heard or to protest such filing should file a motion to intervene or protest with the Federal Energy Regulatory Commission, 888 First Street, NE., Washington, DC. 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,

Secretary.

[FR Doc. 00-9771 Filed 4-18-00; 8:45 am]

BILLING CODE 6717-01-P